DEPARTMENT OF THE TREASURY

United States Mint

Establish Price Increases for 2020 United States Mint Silver Numismatic Products

AGENCY: United States Mint, Department of the Treasury.

ACTION: Notice.

SUMMARY: The United States Mint is announcing pricing for United States Mint numismatic products in accordance with the table below:

Product | 2020 Retail price
Presidential Silver Medals | $65.00
America the Beautiful Quarters Silver Proof Set | 60.00
American Eagle One Ounce Silver Proof Coin | 73.00
American Eagle One Ounce Silver Uncirculated Coin | 67.00
American Eagle One Ounce Silver Proof Coins—Bulk Pack | 2,920.00
American Eagle One Ounce Silver Uncirculated Coin—Bulk Pack | 2,680.00
Limited Edition Silver Proof Set | 201.00
Silver Proof Set | 105.00
America the Beautiful Five Ounce Silver Uncirculated Coin | 229.00
End of World War II 75th Anniversary American Eagle Silver Proof Coin | 83.00
End of World War II 75th Anniversary One Ounce Silver Medal | 75.00
2019 America the Beautiful Quarters Silver Proof Set | 60.00
2019 American Liberty High Relief Silver Medal | 175.00
2019 Congratulations Set | 75.00
2019 Silver Proof Set | 105.00

FOR FURTHER INFORMATION CONTACT: Derrick Griffin, Marketing Specialist, Sales and Marketing; United States Mint; 801 9th Street NW, Washington, DC 20220; or call 202-354-7579.

Authority: 31 U.S.C. 5111, 5112, 5132, & 9701

Eric Anderson,
Executive Secretary, United States Mint.

[FR Doc. 2020-22458 Filed 10-7-20; 8:45 am]

BILLING CODE P